SECURITIES AND EXCHANGE COMMISSION

Sunshine Act Meetings

TIME AND DATE: Notice is hereby given, pursuant to the provisions of the Government in the Sunshine Act, Public Law 94-409, the Securities and Exchange Commission will hold an Open Meeting on Wednesday, November 4, 2020 at 2:00 p.m.

PLACE: The meeting will be webcast on the Commission's website at www.sec.gov.

STATUS: This meeting will begin at 2:00 p.m. (ET) and will be open to the public via audio webcast only on the Commission's website at www.sec.gov.

MATTERS TO BE CONSIDERED:

1. The Commission will consider whether to issue a Notice, pursuant to Exchange Act Rule 0-13, seeking public comment on an application made by a foreign financial regulatory authority, pursuant to Exchange Act Rule 3a71-6, for a substituted compliance determination, and on a proposed order providing for the conditional availability of substituted compliance in connection with the application.

2. The Commission will consider whether to issue an order granting exemptive relief from Sections 8 and 15(a)(1) of the Securities Exchange Act of 1934 and Rules 3b-13(b)(2), 8c-1, 10b-10, 15a-1 and 15c2-1 thereunder in connection with the revision of the definition of “security” to encompass security-based swaps; declining to extend exemptive relief from Rules 10b-16 and 15c2-5; and determining the expiration date for a temporary exemption from Section 29(b) of the Securities Exchange Act of 1934 in connection with registration of security-based swap dealers and major security-based swap participants.

CONTACT PERSON FOR MORE INFORMATION: For further information and to ascertain what, if any, matters have been added, deleted or postponed, please contact Vanessa A. Countryman, Office of the Secretary, at (202) 551-5400.

Dated: October 28, 2020.
Vanessa A. Countryman,
Secretary.

[FR Doc. 2020-24286 Filed 10-29-20; 11:15 am]

BILLING CODE 8011-01-P